DEPARTMENT OF COMMERCE

Foreign-Trade Zones Board

[Docket 9-2009]

Foreign-Trade Zone 114 -- Peoria, Illinois, Area, Application for Reorganization/Expansion

An application has been submitted to the Foreign-Trade Zones (FTZ) Board (the Board) by the Economic Development Council for Central Illinois, Inc., grantee of FTZ 114, requesting authority to reorganize and expand its zone project adjacent to the Peoria Customs and Border Protection port of entry. The application was submitted pursuant to the provisions of the Foreign-Trade Zones Act, as amended (19 U.S.C. 81a-81u), and the regulations of the Board (15 CFR part 400). It was formally filed on March 6, 2009.

FTZ 114 was approved on December 21, 1984 (Board Order 288, 50 FR 1606, 1/11/85). The general-purpose zone project currently consists of the following sites (314 acres total): Site 1 (88 acres) -- located at 1925 Darst Street, Peoria; Site 2 (150 acres) -- United Facilities, Inc., 603 North Main Street, East Peoria; Site 3 (17 acres) -- located at 1001 Wesley Road, Creve Coeur; Site 4 (2 acres) -- located at 5703 Smithville Road, Bartonville; Site 5 (37 acres) -- located at 278 Koch Street, Pekin; Site 5A (145,000 sq. ft.) -- located at 2314 E. Wilkins Drive, Mossville; and, Site 6 (17 acres, 2 parcels) -- located at 6409 West Smithville Road, Bartonville.

The applicant is now requesting authority to reorganize and expand the general-purpose zone project as follows: delete Existing Site 3 in its entirety due to changed circumstances; and, add two new sites: Proposed Site 7 (360 acres) -- located at the former Chanute Air Force Base, 601 S. Century Boulevard, Rantoul; and, Proposed Site 8 (333 acres) -- Logistics Park Galesburg, 659 Knox Road 1440N (U.S. 150 East and I-74), Galesburg. The proposal would result in an overall net increase of 676 acres in total zone space. The proposed sites will provide warehousing and distribution services to area businesses. No specific manufacturing authority is being requested at this time. Such requests would be made to the Board on a case-by-case basis.

In accordance with the Board's regulations, Camille Evans of the FTZ Staff is designated examiner to investigate the application and report to the Board.

Public comment is invited from interested parties. Submissions (original and 3 copies) shall be addressed to the Board's Executive Secretary at the address listed below. The closing period for their receipt is May 12, 2009. Rebuttal comments in response to material submitted during the foregoing period may be submitted during the subsequent 15-day period (to May 27, 2009).

A copy of the application will be available for public inspection at the Office of the Executive Secretary, Foreign-Trade Zones Board, Room 2111, U.S. Department of Commerce, 1401 Constitution Avenue NW, Washington, DC 20230-0002, and in the “Reading Room” section of the Board's website, which is accessible via www.trade.gov/ftz. For further information, contact Camille Evans at Camille_Evans@ita.doc.gov or (202) 482-2350.

Dated: March 6, 2009.
Andrew McGilvray,
Executive Secretary.

[FR Doc. E9-5484 Filed 3-12-09; 8:45 am]

BILLING CODE 3510-DS-S